NATIONAL AERONAUTICS AND SPACE ADMINISTRATION

[Notice 07-071]

Government-Owned Inventions, Available for Licensing

AGENCY: National Aeronautics and Space Administration.

ACTION: Notice of Availability of Inventions for Licensing.

SUMMARY: The invention listed below assigned to the National Aeronautics and Space Administration, has been filed in the United States Patent and Trademark Office, and are available for licensing.

DATES: September 26, 2007.

FOR FURTHER INFORMATION CONTACT: Kaprice L. Harris, Attorney Advisor, Glenn Research Center at Lewis Field, Code 500-118, Cleveland, OH 44135; telephone (216) 433-5754; fax (216) 433-6790.

NASA Case No. LEW-17269-2: Reverse-Bias Protected Solar Array With Integrated ByPass Battery;

NASA Case No. LEW-17916-1: Carbon Dioxide Gas Sensors and Method of Manufacturing and Using Same;

NASA Case No. LEW-18207-1: Circuit for Communication Over DC Power Line Using High Temperature Electronics.

Dated: September 19, 2007.
Keith T. Sefton,
Deputy General Counsel, Administration and Management.

[FR Doc. E7-18926 Filed 9-25-07; 8:45 am]

BILLING CODE 7510-13-P